DEPARTMENT OF THE INTERIOR

Minerals Management Service

Minerals Management Service (MMS) Outer Continental Shelf (OCS), Gulf of Mexico (GOM) Region, Proposed Use of Floating Production, Storage and Offloading Systems on the Central and Western GOM OCS

AGENCY: Minerals Management Service, Interior.

ACTION: Correction to the Notice of Availability of the Draft Environmental Impact Statement (EIS) and locations and dates of public hearings for the EIS on the proposed use of floating production, storage and offloading (FPSO) systems on the Central and Western GOM OCS.

On August 15, 2000, the MMS in the Federal Register (65 FR 49829) a Notice of Availability of the Draft EIS and Locations and Dates of Public Hearings for the EIS on the Proposed Use of FPSO Systems on the Central and Western GOM OCS. The Notice identified the dates and locations of public hearings to be held at four locations along the GOM coast. The dates of those public hearings are incorrect. The correct dates are:

• Monday, September 18, Adam's Mark Hotel, 64 South Water Street, Mobile, Alabama;

• Tuesday, September 19, Radisson Inn New Orleans International Airport, 2150 Veterans Boulevard, Kenner, Louisiana;

• Wednesday, September 20, Radisson Hotel and Conference Center, Hobby Airport Houston, 9100 Gulf Freeway, Houston, Texas;

• Thursday, September 21, Best Western Richmond Suites, 2600 Moeling Street, Lake Charles, Louisiana.

All other items in the August 15, 2000, Notice of Availability remain as stated.

Dated: August 17, 2000.
Richard Wildermann,
Acting Chief, Environmental Division.

[FR Doc. 00-21339 Filed 8-21-00; 8:45 am]

BILLING CODE 4310-MR-M